DEPARTMENT OF THE INTERIOR

Bureau of Land Management

[BLM_ID_FRN_MO4500171580]

Notice of Realty Action: Direct Sale of Public Lands in Custer County, ID

AGENCY: Bureau of Land Management, Interior.

ACTION: Notice of realty action.

SUMMARY: The Bureau of Land Management (BLM) proposes a non-competitive (direct) sale of a parcel of BLM-managed public lands in Idaho to permanently resolve the inadvertent and unauthorized use of the land. The parcel, located in Custer County, contains 2.07 acres and, if approved, would be sold to Mr. Raymond M. Simon. The sale would be subject to the applicable provisions of the Federal Land Policy and Management Act of 1976 (FLPMA), as amended, and BLM land sale regulations. The surface and mineral estate would be sold for no less than the appraised fair market value of $30,000.

DATES: Interested parties must submit written comments, postmarked, or delivered no later than August 15, 2024.

The land would not be offered for sale until after August 30, 2024.

ADDRESSES: Mail written comments to Martha Price, Acting Field Manager, BLM Challis Field Office, P.O. Box 817, Challis, ID 83226. Comments may also be emailed to mprice@blm.gov.

FOR FURTHER INFORMATION CONTACT: David Hilliard, Assistant Field Manager, BLM Challis Field Office, phone: 208-879-6217, or email: dhilliard@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM will consider a direct sale in accordance with applicable provisions of Sections 203 and 209 of FLPMA and BLM land sale regulations. The parcel would be sold for no less than the appraised fair market value of $30,000.

Boise Meridian, Idaho

T. 13 N., R. 19 E.

Sec. 9, lot 4.

The area described contains 2.07 acres.

There is no known mineral value in the parcel; therefore, the mineral estate would also be conveyed in accordance with Section 209 of FLPMA. Mr. Raymond M. Simon would be required to pay a $50 non-refundable filing fee for conveyance of the available mineral interests and any associated administrative costs with the sale. The proposed sale is in conformance with the BLM Challis Resource Management Plan approved in July 1999, and the plan maintenance action approved on May 10, 2022. The BLM prepared a parcel-specific Environmental Assessment (EA), document number DOI-BLM-ID-I030-2023-0012-EA, in connection with this realty action. It can be viewed online at https://eplanning.blm.gov/eplanning-ui/project/2024447/510.

Regulations at 43 CFR 2710.0-3(a) and 2711.3-3(a) authorize the BLM to utilize a direct sale of public land when a competitive sale is not appropriate and the public interest would best be served by a direct sale. The BLM would offer the lands to Mr. Raymond M. Simon since he is the adjacent landowner and owns the access to the public land. The subject parcel has been determined to meet FLPMA Section 203(a) sale criteria. The parcel is difficult and uneconomic to manage because it is encumbered by inadvertent, unauthorized privately-owned improvements.

Pursuant to the requirements of 43 CFR 2711.1-2(d), publication of this notice in the Federal Register will segregate the land from all forms of appropriation under the public land laws, including the mining laws, except for the sale provisions of FLPMA. Until completion of the sale, the BLM will no longer accept land use applications affecting the public land. The effect of this segregation will terminate upon issuance of a patent, publication in the Federal Register of a termination of the segregation, or two years after the date of publication in the Federal Register, unless extended by the BLM Idaho State Director in accordance with 43 CFR 2711.1-2(d) prior to the termination date. The BLM will publish this notice in The Challis Messenger newspaper once a week for three consecutive weeks.

The conveyance document, if issued, will include the following terms, conditions, and reservations:

1. A reservation to the United States for ditches and canals constructed by the authority of the United States under the Act of August 30, 1890;

2. Subject to the continuing use of the Garden Creek Allotment by Micky and Maureen Roskelley pursuant to livestock grazing permit no. ID01347 for a period to expire on January 6, 2025;

3. Subject to those perpetual rights for road purposes granted to Idaho Department of Transportation, its successors and assigns, by right-of-way no. IDI 0-000935, pursuant to Section 17 of the Federal Aid Highway Act of November 9, 1921 (42 Stat. 0216);

4. Subject to those rights for buried telephone line purposes granted to Custer Telephone Cooperative, Inc., its successors and assigns, by right-of-way no. IDI-016458, pursuant to the Act of October 21, 1976 (43 U.S.C. 1761). Expires September 6, 2032;

5. Subject to those rights for buried fiber optic line purposes granted to Custer Telephone Cooperative, Inc., its successors and assigns, by right-of-way no. IDI-033655, pursuant to the Act of October 21, 1976 (43 U.S.C. 1761);

6. Subject to those perpetual rights for overhead power line purposes granted to Salmon River Electric Cooperative, its successors and assigns, by right-of-way no. IDI-016348, pursuant to the Act of October 21, 1976 (43 U.S.C. 1761);

7. An appropriate indemnification clause protecting the United States from claims arising out of the patentee's use, occupancy, or operations on the patented land;

8. Valid existing rights issued prior to conveyance; and

9. Additional terms and conditions that the authorized officer deems appropriate.

The BLM will make available the reports pertaining to the land, which include an appraisal, environmental site assessment, and mineral potential report for review at the Challis Field Office, 721 East Main Avenue, Suite 8, Challis, ID 83226. Interested parties may submit, in writing, any comments concerning the land being considered for sale, including notification of any encumbrances or other claims relating to the parcel, at the address listed in the ADDRESSES section by the deadline listed in the DATES section.

The land is suitable for direct sale under FLPMA, without competition, consistent with 43 CFR 2711.3-3(a)(4), as direct sales may be used “when in the opinion of the authorized officer, a competitive sale is not appropriate and the public interest would best be served by a direct sale,” including when “the adjoining ownership pattern and access indicate a direct sale is appropriate.” It is also suitable for direct sale consistent with 43 CFR 2711.3-3(a)(5) because there is a need to resolve an inadvertent and unauthorized use of public lands.

The BLM Idaho State Director will review adverse comments regarding the parcel and may sustain, vacate, or modify this realty action, in-whole or in-part. In the absence of timely objections, this realty action will become the final determination of the Department of the Interior.

Before including your address, phone number, email address, or other personal identifying information in your comment, be aware that your entire comment, including your personal identifying information, may be made publicly available at any time. While you can ask us, in your comment, to withhold your personal identifying information from public review, we cannot guarantee that we will be able to do so.

(Authority: 43 CFR 2711.1-2)

Peter Ditton,
Acting BLM Idaho State Director.

[FR Doc. 2024-14443 Filed 6-28-24; 8:45 am]

BILLING CODE 4331-19-P